DEPARTMENT OF ENERGY

Federal Energy Regulatory Commission

Combined Notice of Filings #1

Take notice that the Commission received the following electric rate filings:

Docket Numbers: ER10-1484-008.

Applicants: Shell Energy North America (US), L.P.

Description: Updated Market Power Analysis for the Southwest Region of Shell Energy North America (US), L.P.

Filed Date: 7/1/13.

Accession Number: 20130701-5384.

Comments Due: 5 p.m. ET 8/30/13.

Docket Numbers: ER10-1674-003.

Applicants: Deseret Generation & Transmission Co-operative.

Description: Updated Market Power Analysis to be effective 7/1/2013.

Filed Date: 7/1/13.

Accession Number: 20130701-5306.

Comments Due: 5 p.m. ET 8/30/13.

Docket Numbers: ER10-2474-004; ER10-2475-004.

Applicants: Sierra Pacific Power Company, Nevada Power Company.

Description: Updated Market Power Analysis for the Northwest Region of Sierra Pacific Power Company, et al.

Filed Date: 7/1/13.

Accession Number: 20130701-5387.

Comments Due: 5 p.m. ET 8/30/13.

Docket Numbers: ER10-3077-003; ER10-3075-003; ER10-3076-003; ER10-3074-003; ER10-3071-003; ER10-3257-002.

Applicants: CalPeak Power LLC, CalPeak Power—Border LLC, CalPeak Power—Enterprise LLC, CalPeak Power—Vaca Dixon LLC, CalPeak Power—Panoche LLC, Starwood Power-Midway, LLC.

Description: Updated Market Power Analysis for the Southwest Region of the CalPeak Entities, et al.

Filed Date: 7/1/13.

Accession Number: 20130701-5389.

Comments Due: 5 p.m. ET 8/30/13.

Docket Numbers: ER13-1661-001.

Applicants: NEXTENERGY SERVICES LLC.

Description: Amended Tariff and Asset Appendix to be effective 8/10/2013.

Filed Date: 7/1/13.

Accession Number: 20130701-5319.

Comments Due: 5 p.m. ET 7/22/13.

Docket Numbers: ER13-1878-000.

Applicants: PJM Interconnection, L.L.C.

Description: Original Service Agreement No. 3587—Queue Position Y3-049 to be effective 5/30/2013.

Filed Date: 7/1/13.

Accession Number: 20130701-5252.

Comments Due: 5 p.m. ET 7/22/13.

Docket Numbers: ER13-1879-000.

Applicants: PJM Interconnection, L.L.C.

Description: Original Service Agreement No. 3586—Queue Position Y3-048 to be effective 5/30/2013.

Filed Date: 7/1/13.

Accession Number: 20130701-5262.

Comments Due: 5 p.m. ET 7/22/13.

Docket Numbers: ER13-1880-000.

Applicants: New England Power Pool Participants Committee, ISO New England Inc.

Description: Revisions to Forward Capacity Auction Market Clearing Function to be effective 9/2/2013.

Filed Date: 7/1/13.

Accession Number: 20130701-5264.

Comments Due: 5 p.m. ET 7/22/13

Docket Numbers: ER13-1881-000.

Applicants: Cabazon Wind Partners, LLC.

Description: SW Triennial & Tariff Revisions to be effective 7/2/2013.

Filed Date: 7/1/13.

Accession Number: 20130701-5265.

Comments Due: 5 p.m. ET 8/30/13.

Docket Numbers: ER13-1882-000.

Applicants: Whitewater Hill Wind Partners, LLC.

Description: SW Triennial & Tariff Revisions to be effective 7/2/2013.

Filed Date: 7/1/13.

Accession Number: 20130701-5290.

Comments Due: 5 p.m. ET 8/30/13.

Take notice that the Commission received the following electric securities filings:

Docket Numbers: ES13-34-000.

Applicants: ISO New England Inc.

Description: Application of ISO New England Inc. under Section 204 of the Federal Power Act.

Filed Date: 7/1/13.

Accession Number: 20130701-5381.

Comments Due: 5 p.m. ET 7/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2013.
Nathaniel J. Davis, Sr.,
Deputy Secretary.

[FR Doc. 2013-16625 Filed 7-10-13; 8:45 am]

BILLING CODE 6717-01-P